DEPARTMENT OF LABOR

Office of the Secretary

Submission for OMB Review; Comment Request

May 24, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ESA, and PWBA contact Marlene Howze ((202) 219-8904 or by email to Howze-Marlene@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Reinstatement, with change, of a previously approved collection for which approval has expired.

Agency: Bureau of Labor Statistics (BLS).

Title: Veterans Supplement to the CPS.

OMB Number: 1220-0102.

Affected Public: Individuals or households.

Frequency: Biennially.

Number of Respondents: 14,400.

Number of Annual Responses: 14,400.

Estimated Time Per Response: 1 minute.

Total Burden Hours: 240.

Total Annualized Capital/Startup Costs: $0.

Total Annual Costs (operating/maintaining systems or purchasing services): $0.

Description: The veterans supplement provides information on the number of characteristics of disabled veterans, veterans who served in the Vietnam War Theater, and recently separated veterans, including their employment status. The supplement also provides data on veterans' participation in various employment and training programs.

The Veterans Employment and Training Service (VETS) and the Department of Veterans Affairs (VA) will also use these data to determine policies that better meet the needs of our Nation's veteran population. Of current concern is the scope of the problems of the veterans as well as the effectiveness of veterans' benefit programs in meeting their needs. The collection of labor force data through the CPS helps BLS meet its mandate as set forth in Title 29, U.S.C., Sections 1 through 9.

Ira L. Mills,
Departmental Clearance Officer.

[FR Doc. 01-13903 Filed 6-1-01; 8:45 am]

BILLING CODE 4510-79-M